DEPARTMENT OF THE INTERIOR

National Park Service

[NPS-WASO-NAGPRA-12759; PPWOCRADN0-PCU00RP14.R50000]

Notice of Inventory Completion: University of South Alabama Center for Archaeological Studies, Mobile, AL

AGENCY: National Park Service, Interior.

ACTION: Notice.

SUMMARY: The University of South Alabama Center for Archaeological Studies has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the University of South Alabama Center for Archaeological Studies. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the University of South Alabama Center for Archaeological Studies at the address in this notice by May 31, 2013.

ADDRESSES: Dr. Gregory Waselkov, Director, University of South Alabama Center for Archaeological Studies, 6052 USA Drive South, Mobile, AL 36688, telephone (251) 460-6911.

SUPPLEMENTARY INFORMATION: Notice is here given in accordance with the Native American Graves Protection and Repatriation Act (NAGPRA), 25 U.S.C. 3003, of the completion of an inventory of human remains and associated funerary objects under the control of the University of South Alabama Center for Archaeological Studies, Mobile, AL. The human remains and associated funerary objects were removed from Clarke County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of South Alabama Center for Archaeological Studies professional staff in consultation with representatives of the Alabama-Coushatta Tribe of Texas (previously listed as the Alabama-Coushatta Tribes of Texas); Alabama-Quassarte Tribal Town; Chitimacha Tribe of Louisiana; Choctaw Nation of Oklahoma; Coushatta Tribe of Louisiana; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; Thlopthlocco Tribal Town; and the Tunica-Biloxi Indian Tribe.

History and Description of the Remains

At an unknown date, human remains representing, at minimum, five individuals were removed from site 1CK73 in Clarke County, AL. Ben Griffin, a resident of Jackson, AL, removed two burials from this site, without knowledge of state and Federal regulations prohibiting such activity. The Griffin collection was given to the University of South Alabama in 2003. No known individuals were identified.

The human remains from Burial 1 represent, at minimum, two individuals, consisting of 9 molars, 2 molar fragments, 8 pre-molars, 4 canines, 2 shovel-shaped incisors, 1 proximal tibia shaft, 1 ulna shaft fragment, 1 radius shaft fragment, and 22 unidentifiable skeletal fragments. The 6,172 associated funerary objects from Burial 1 are 5,976 glass beads or bead fragments, 1 sand-tempered aboriginal ceramic bowl base, 1 brass kettle, 11 brass bracelets, 20 brass button fragments, 7 unidentified copper fragments, 19 thin copper wire fragments, 38 or more dried vermilion paint fragments, 23 iron nail fragments, 68 or more unidentified iron fragments, 2 iron kettle handle fragments, 4 flat iron fragments, 1 iron knife blade, and 1 French blue-green cylindrical glass bottle in 88 fragments.

The human remains from Burial 2 represent, at minimum, three individuals, consisting of 16 molars, 10 premolars, 9 incisors, 7 canines, 61 unidentifiable tooth fragments, 1 rib fragment, and 25 unidentifiable skeletal fragments. The 81 associated funerary objects from Burial 2 are 11 glass beads/bead fragments, 2 plain shell-tempered ceramic jars, 1 small brass kettle, 1 iron kettle handle fragment, 6 unidentified flat iron fragments, 4 copper button fragments, 1 bird bone, 1 gastropod shell, 4 flat glass fragments, and 50 or more dried vermilion paint fragments.

Site 1CK73 is located on the east bank of the lower Tombigbee River, at a place that Halbert and Ball ([1895]1969:113) called the “delightful West Bend neighborhood” in the late 1800s. Cultural materials from site 1CK73 indicate use of the site during the Late Woodland period (approximately A.D. 700-1100) by people of the late Weeden Island and McLeod cultural traditions. Based on the presence of one sherd of Chickachae Combed pottery, Ben Coblentz and John Blitz concluded that the site may be the remnants of “Fikitchipunta” (Coblentz and Blitz 1978), one of the last Choctaw villages on the east side of the Tombigbee River (John Blitz, personal communication, April 2005). Support for Coblentz and Blitz's identification of Fikitchipunta is found in Halbert and Ball ([1895]1969), who assert that the area of site 1CK73 represents a Choctaw reservation called “Fakit Chipunta,” translated as “Little Turkeys” and “Turkey Town” by English speakers. The artifacts associated with both Burial 1 and Burial 2 indicate interment dates in the historical period. Glass beads associated with both burials date the burials to circa 1750-1785, when the region was occupied and controlled by Choctaws.

Determinations Made by the University of South Alabama Center for Archaeological Studies

Officials of the University of South Alabama Center for Archaeological Studies have determined that:

• Pursuant to 25 U.S.C. 3001(9), the human remains described in this notice represent the physical remains of five individuals of Native American ancestry.

• Pursuant to 25 U.S.C. 3001(3)(A), the 6,253 objects described in this notice are reasonably believed to have been placed with or near individual human remains at the time of death or later as part of the death rite or ceremony.

• Pursuant to 25 U.S.C. 3001(2), there is a relationship of shared group identity that can be reasonably traced between the Native American human remains associated funerary objects and the Alabama-Coushatta Tribe of Texas (previously listed as the Alabama-Coushatta Tribes of Texas); Alabama-Quassarte Tribal Town; Chitimacha Tribe of Louisiana; Choctaw Nation of Oklahoma; Coushatta Tribe of Louisiana; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; Thlopthlocco Tribal Town; and the Tunica-Biloxi Indian Tribe.

Additional Requestors and Disposition

Lineal descendants or representatives of any Indian tribe or Native Hawaiian organization not identified in this notice that wish to request transfer of control of these human remains and associated funerary objects should submit a written request with information in support of the request to Dr. Gregory Waselkov, Director, University of South Alabama Center for Archaeological Studies, 6052 USA Drive South, Mobile, AL 36688, telephone (251) 460-6911, by May 31, 2013. After that date, if no additional requestors have come forward, transfer of control of the human remains and associated funerary objects to the Alabama-Coushatta Tribe of Texas (previously listed as the Alabama-Coushatta Tribes of Texas); Alabama-Quassarte Tribal Town; Chitimacha Tribe of Louisiana; Choctaw Nation of Oklahoma; Coushatta Tribe of Louisiana; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; Thlopthlocco Tribal Town; and the Tunica-Biloxi Indian Tribe may proceed.

The University of South Alabama Center for Archaeological Studies is responsible for notifying the Alabama-Coushatta Tribe of Texas (previously listed as the Alabama-Coushatta Tribes of Texas); Alabama-Quassarte Tribal Town; Chitimacha Tribe of Louisiana; Choctaw Nation of Oklahoma; Coushatta Tribe of Louisiana; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; Thlopthlocco Tribal Town; and the Tunica-Biloxi Indian Tribe that this notice has been published.

Dated: April 3, 2013.
Sherry Hutt,
Program Manager, National NAGPRA Program.

[FR Doc. 2013-10219 Filed 4-30-13; 8:45 am]

BILLING CODE 4312-50-P